DEPARTMENT OF COMMERCE

International Trade Administration

[A-570-992]

Monosodium Glutamate From the People's Republic of China: Final Results of the First Expedited Sunset Review of the Antidumping Duty Order

AGENCY: Enforcement and Compliance, International Trade Administration, Department of Commerce.

SUMMARY: As a result of this expedited sunset review, Commerce finds that the revocation of the antidumping duty order on monosodium glutamate (MSG) from the People's Republic of China (China) would be likely to lead to the continuation or recurrence of dumping at the levels indicated in the “Final Results of Review” section of this notice.

DATES: Applicable January 31, 2020.

FOR FURTHER INFORMATION CONTACT: Jacqueline Arrowsmith, AD/CVD Operations, Office VII, Enforcement and Compliance, International Trade Administration, U.S. Department of Commerce, 1401 Constitution Avenue NW, Washington, DC 20230; telephone: (202) 482-5255.

SUPPLEMENTARY INFORMATION:

Background

On October 1, 2019, Commerce published the notice of initiation of the first sunset review of the antidumping duty order on MSG from China ¹ pursuant to section 751(c) of the Tariff Act of 1930, as amended (the Act).² On October 15, 2019, Commerce received a notice of intent to participate from Ajinomoto Health & Nutrition North America, Inc. (the domestic interested party), a U.S. producer and wholesaler of a domestic like product, within the 15-day deadline specified in 19 CFR 351.218(d)(1)(i).³

¹ Monosodium Glutamate from the People's Republic of China, and the Republic of Indonesia: Antidumping Duty Orders; and Monosodium Glutamate from the People's Republic of China: Amended Final Determination of Sales at Less Than Fair Value, 79 FR 70505 (November 26, 2014) (Order).

² See Initiation of Five-Year (Sunset) Reviews, 84 FR 52067 (October 1, 2019) (Notice of Initiation).

³ See Domestic Interested Party's Letter, “Monosodium Glutamate from China: Notice of Intent to Participate,” dated October 15, 2019.

On October 31, 2019, Commerce received an adequate substantive response to the Notice of Initiation from the domestic interested party within the 30-day deadline specified in 19 CFR 351.218(d)(3)(i).⁴ We received no substantive responses from respondent interested parties with respect to the Order covered by this sunset review.

⁴ See Domestic Interested Party's Letter, “Monosodium Glutamate from China: First Review: Substantive Response to Notice of Initiation,” dated October 31, 2019.

On November 22, 2019, Commerce notified the International Trade Commission (ITC) that it did not receive adequate substantive responses from respondent interested parties.⁵ As a result, pursuant to 19 CFR 351.218(e)(1)(ii)(C)(2), Commerce is conducting an expedited (120-day) sunset review of the antidumping duty order on MSG from China.

⁵ See Commerce's Letter to the ITC, “Sunset Review Initiated on October 1, 2019,” dated November 22, 2019.

Scope of the Order

The product covered by the Order is MSG, whether or not blended or in solution with other products. Specifically, MSG that has been blended or is in solution with other product(s) is included in this scope when the resulting mix contains 15 percent or more of MSG by dry weight. Products with which MSG may be blended include, but are not limited to, salts, sugars, starches, maltodextrins, and various seasonings. For the full description of the scope of the Order, see the Issues and Decision Memorandum.⁶

⁶ See Memorandum, “Issues and Decision Memorandum for the First Expedited Sunset Review of the Antidumping Duty Order on Monosodium Glutamate from the People's Republic of China,” dated concurrently with, and hereby adopted by, this notice (Issues and Decision Memorandum).

Analysis of Comments Received

All issues raised in this sunset review are addressed in the Issues and Decision Memorandum.⁷ The Issues and Decision Memorandum is a public document and is on file electronically via Enforcement and Compliance's Antidumping and Countervailing Duty Centralized Electronic Service System (ACCESS). ACCESS is available to registered users at http://access.trade.gov, and to all parties in the Central Records Unit, room B8024 of the main Commerce building. A list of topics discussed in the Issues and Decision Memorandum is included as the appendix to this notice. In addition, a complete version of the Issues and Decision Memorandum can be accessed directly on the internet at http://enforcement.trade.gov/frn. The signed and electronic versions of the Issues and Decision Memorandum are identical in content.

⁷ Id.

Final Results of Review

Pursuant to sections 751(c)(1) and 752(c)(1) and (3) of the Act, Commerce determines that revocation of the antidumping duty order on MSG from China would be likely to lead to the continuation or recurrence of dumping at rates up to 40.41 percent.

Notification Regarding Administrative Protective Orders (APO)

This notice also serves as the only reminder to parties subject to APO of their responsibility concerning the return or destruction of proprietary information disclosed under APO in accordance with 19 CFR 351.305. Timely written notification of the return or destruction of APO materials or conversion to judicial protective orders is hereby requested. Failure to comply with the regulations and terms of an APO is a violation which is subject to sanction.

Notification to Interested Parties

We are issuing and publishing these final results and this notice in accordance with sections 751(c), 752(c), and 777(i)(1) of the Act, and 19 CFR 351.218.

Dated: January 24, 2020.
Jeffrey I. Kessler,
Assistant Secretary for Enforcement and Compliance.

Appendix

List of Topics Discussed in the Issues and Decision Memorandum

I. Summary

II. Background

III. Scope of the Order

IV. History of the Order

V. Legal Framework

VI. Discussion of the Issues

1. Likelihood of the Continuation or Recurrence of Dumping

2. Magnitude of the Margins of Dumping Likely to Prevail

VII. Final Results of Sunset Review

VIII. Recommendation

[FR Doc. 2020-01834 Filed 1-30-20; 8:45 am]

BILLING CODE 3510-DS-P